SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 15, 2010.

ADDRESSES: Send all comments regarding whether this information collection is necessary for the proper performance of the function of the agency, whether the burden estimates are accurate, and if there are ways to minimize the estimated burden and enhance the quality of the collection, to Jihoon Kim, Director Secondary Market & 504 Sales, Office of Financial Assistance, Small Business Administration, 409 3rd Street, 8th Floor, Washington, DC 20416.

FOR FURTHER INFORMATION CONTACT: Jihoon Kim, Office of Financial Assistance, 202-205-7530 jihoon.kim@sba.gov Curtis B. Rich, Management Analyst, 202-205-7030 curtis.rich@sba.gov.

SUPPLEMENTARY INFORMATION: These forms capture the terms and conditions of SBA's new Secondary Market for First Mortgage Loan Pool Program. SBA needs this information in order to identify program participants, term of the financial transaction involving federal government guarantees and reporting on program efficiency, including the proper use of Recovery Act funds.

Title: “Secondary Market for Section 504 First Mortgage Loan Pool.”

Description of Respondents: Secondary Market Participants.

Form Number: 2401, 2402, 2403, 2404.

Annual Responses: 12,490.

Annual Burden: 33,075.

Jacqueline White,
Chief, Administrative Information Branch.

[FR Doc. 2010-22915 Filed 9-13-10; 8:45 am]

BILLING CODE 8025-01-P